ENVIRONMENTAL PROTECTION AGENCY

[ER-FRL-8596-3]

Environmental Impacts Statements; Notice of Availability

Responsible Agency: Office of Federal Activities, General Information (202) 564-1399 or http://www.epa.gov/compliance/nepa/.

Weekly receipt of Environmental Impact Statements

Filed 08/03/2009 through 08/07/2009

Pursuant to 40 CFR 1506.9.

EIS No. 20090275, Final EIS, FHW, KY, I-65 to US 31 W Access Improvement Project, to Meet the Existing and Future Transportation Demand, in northeast Bowling Green, Warren County, KY, Wait Period Ends: 09/14/2009, Contact: Jose Sepulveda 502-223-6764.

EIS No. 20090276, Final Supplement, COE, WA, Commencement Bay “Reauthorization” of Dredged Material Management Program Disposal Site, Implementation, Central Puget Sound, Tacoma, WA, Wait Period Ends: 09/14/2009, Contact: Dr. Stephen Martin 206-764-3631.

EIS No. 20090277, Draft EIS, AFS, CO, Hermosa Park/Mitchell Lakes Land Exchange Project, Proposed Land Exchange between Federal and Non-Federal Lands, Implementation, Federal Land in LaPlata County and Non-Federal Land in San Juan County, CO, Comment Period Ends: 09/28/2009, Contact: Cindy Hockelberg 970-884-1418.

EIS No. 20090278, Draft Supplement, FHW, NH, I-93 Highway Improvements, from Massachusetts State Line to Manchester, NH, Funding, NPDES and US Army COE section 404 Permits Issuance, Hillsborough and Rockingham Counties, NH, Comment Period Ends: 09/28/2009, Contact: Jamison S. Sikora 603-228-3057 Ext. 107.

EIS No. 20090279, Draft EIS, BLM, WA, Blackfoot Bridge Mine Project, Developing Three Mine Pits, Haul Roads, Water Management Structures, and Overburden Disposal Areas, Implementation, Caribou County, ID, Comment Period Ends: 09/28/2009, Contact: Kyle Free 208-478-6368.

EIS No. 20090280, Draft Supplement, FHW, TN, Shelby Avenue/Demonbreun Street (Gateway Boulevard Corridor, from I-65 North [I-24 West] to I-40 West in Downtown Nashville, To Address Transportation needs in the Study Area. Davidson County, TN, Comment Period Ends: 09/28/2009, Contact: Charles O'Neill 615-781-5770.

EIS No. 20090281, Final EIS, BLM, WY, South Gillette Area Coal Lease Applications, WYW172585, WYW173360, WYW172657,WYW161248, Proposal to Lease Four Tracts of Federal Coal Reserves, Belle Ayr, Coal Creek, Caballo, and Cordero Rojo Mines, Wyoming Powder River Basin, Campbell County, WY, Wait Period Ends: 09/14/2009, Contact: Teresa Johnson 307-261-7510.

EIS No. 20090282, Final EIS, FRC, VA, Smith Mountain Pumped Storage Project (FERC No. 2210-169). Application for Hydropower License to continue Operating the 636-megawatt Pumped Storage Project, Roanoke River, Smith Mountain Pumped Storage Project (FERC No. 2210-169). Application for Hydropower License to continue Operating the 636-megawatt Pumped Storage Project, Roanoke River, Bedford, Campbell, Franklin and Pittsylvania Counties, VA, Wait Period Ends: 09/14/2009, Contact: Julia Bovey 1-866-208-3372.

EIS No. 20090283, Draft EIS, NPS, WI, Apostle Islands National Lakeshore General Management Plan/Wilderness Management Plan, Implementation, Bayfield and Ashland Counties, WI, Comment Period Ends: 10/13/2009, Contact: Nick Chevance 402-661-1844.

EIS No. 20090284, Final EIS, ARD, WA, Adoption—White Pass Expansion Master Development Plan, Implementation, Naches Ranger District, Okanogan-Wenatchee National Forests and Cowlitz Valley Ranger District, Gifford Pinchot National Forest, Yakima and Lewis Counties, WA, Wait Period Ends: 09/14/2009, Contact: Frank Mancino 202-720-1827.

The U.S. Department of Agriculture, Rural Development Program has adopted the U.S. Department of Agriculture, Forest Service's FEIS #20070279 filed 06/29/2007. Rural Development Program was not a Cooperating Agency on the above FEIS. Under section 1506.3(b) of the CEQ Regulations, the FEIS must be Recirculated for a 30-day Wait Period.

Amended Notices

EIS No. 20090262, Draft EIS, EPA, GU, Apra Harbor, Guam, Proposed Site Designation of an Ocean Dredged Material Disposal Site Offshore of Guam, Comment Period Ends: 10/06/2009, Contact: Allan Ota 415-972-3476. Revision to FR Notice Published 07/31/2009: Correction to the Comment Period from 09/28/2009 to 10/06/2009.

Dated: August 11, 2009.
Ken Mittelholtz,
Environmental Protection Specialist, Office of Federal Activities.

[FR Doc. E9-19557 Filed 8-14-09; 8:45 am]

BILLING CODE 6560-50-P